FEDERAL COMMUNICATIONS COMMISSION

47 CFR Part 73

[DA 00-1707, MM Docket No. 99-317; RM-9743]

Digital Television Broadcast Service; Baton Rouge, LA

AGENCY: Federal Communications Commission.

ACTION: Final rule.

SUMMARY: The Commission, at the request of Louisiana Television Broadcasting Corporation, licensee of TV station WBRZ, substitutes DTV 13 for DTV Channel 42 at Baton Rouge, Louisiana. See 64 FR 59148, November 2, 1999. DTV Channel 13 can be allotted to Baton Rouge at coordinates (30-17-49 N. and 91-11-40 W.) with a power of 30, HAAT of 515 meters and with a DTV service population of 1751 thousand. With this action, this proceeding is terminated.

DATES: Effective September 18, 2000.

FOR FURTHER INFORMATION CONTACT: Pam Blumenthal, Mass Media Bureau, (202) 418-1600.

SUPPLEMENTARY INFORMATION: This is a synopsis of the Commission's Report and Order, MM Docket No. 99-317, adopted August 2, 2000, and released August 3, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR PART 73

Digital television broadcasting.

Part 73 of Title 47 of the Code of Federal Regulations is amended as follows:

Part 73—[AMENDED]

1. The authority citation for Part 73 continues to read as follows:

Authority: 47 U.S.C. 154, 303, 334, 336.

§ 73.622 [Amended]

2. Section 73.622(b), the Table of Digital Television Allotments under Louisiana, is amended by removing DTV Channel 42 and adding DTV Channel 13 at Baton Rouge.

Federal Communications Commission.
Barbara A. Kreisman,
Chief, Video Services Division, Mass Media Bureau.

[FR Doc. 00-19886 Filed 8-4-00; 8:45 am]

BILLING CODE 6712-01-U